DEPARTMENT OF ENERGY

Federal Energy Regulatory Commission

[Docket No. RP01-489-000]

Viking Gas Transmission Company; Notice of Tariff Filing

July 26, 2001.

Take notice that on July 20, 2001, Viking Gas Transmission Company (Viking) tendered for filing as part of its FERC Gas Tariff, First Revised Volume No. 1, the following tariff sheets to be effective August 20, 2001:

Sixth Revised Sheet No. 69

First Revised Sheet Nos. 148 Through 165

Viking states that the purpose of this filing is to delete Viking's pro forma Trading Partner Agreement (TPA) and implement the use of the Gas Industry Standards Board's (GISB) Model Trading Partner Agreement (Model TPA).

Viking states that copies of this filing have been served on all Viking's jurisdictional customers and to affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-19139 Filed 7-31-01; 8:45 am]

BILLING CODE 6717-01-P